DEPARTMENT OF COMMERCE

International Trade Administration

[A-122-840]

Carbon and Certain Alloy Steel Wire Rod From Canada: Extension of Time Limit for Final Results of Antidumping Duty Administrative Review

AGENCY: Import Administration, International Trade Administration, Department of Commerce.

EFFECTIVE DATE: October 23, 2008.

FOR FURTHER INFORMATION CONTACT: Steve Bezirganian or Robert James, AD/CVD Operations, Office 7, Import Administration, International Trade Administration, U.S. Department of Commerce, 14th Street and Constitution Avenue NW, Washington, DC 20230; telephone: (202) 482-1131 or (202) 482-0649, respectively.

SUPPLEMENTARY INFORMATION:

Background

On July 10, 2008, the Department published the preliminary results of this administrative review of the antidumping duty order on carbon and certain alloy steel wire rod from Canada. See Notice of Preliminary Results of Antidumping Duty Administrative Review: Carbon and Certain Alloy Steel Wire Rod From Canada, 73 FR 39646 (July 10, 2008). This review covers Ivaco Rolling Mills 2004 L.P. (formerly Ivaco Rolling Mills L.P.) and Sivaco Ontario (a division of Sivaco Wire Group 2004 L.P.) (formerly Ivaco, Inc.), (collectively referred to as “Ivaco”), for the period October 1, 2006, to September 30, 2007. Ivaco submitted its case brief on August 11, 2008. Petitioners ¹ submitted their rebuttal brief on August 18, 2008. The final results are currently due not later than November 7, 2008.

¹ ISG Georgetown Inc., Gerdau Ameristeel U.S. Inc., Nucor Steel Connecticut Inc., Keystone Consolidated Industries, Inc., and Rocky Mountain Steel Mills

Extension of Time Limit for Final Results

Section 751(a)(3)(A) of the Tariff Act of 1930, as amended (the Act), requires the Department to issue the final results of an administrative review within 120 days after the date on which the preliminary results were published. However, if it is not practicable to complete the review within this time period, section 751(a)(3)(A) of the Act allows the Department to extend the time limit for the final results up to 180 days from the date of publication of the preliminary results.

We determine that it is not practicable to complete the final results of this review within current statutory limits. The Department requires additional time to evaluate the extensive comments provided by parties on the level of trade issue. Therefore, we are extending the deadline for the final results of this review by 35 days, until not later than December 12, 2008, in accordance with section 751(a)(3)(A) of the Act.

We are issuing and publishing this notice in accordance with sections 751(a)(1), 751(a)(3)(A), and 777(i)(1) of the Act.

Dated: October 17, 2008.
Gary Taverman,
Acting Deputy Assistant Secretary for Import Administration.

[FR Doc. E8-25312 Filed 10-22-08; 8:45 am]

BILLING CODE 3510-DS-S